DEPARTMENT OF ENERGY

Federal Energy Regulatory Commission

[Project No. 13804-000]

White River Hydro, LLC; Notice of Preliminary Permit Application Accepted for Filing and Soliciting Comments, Motions To Intervene, and Competing Applications

October 20, 2010.

On July 1, 2010, and supplemented July 15, 20101, White River Hydro, LLC filed an application for a preliminary permit, pursuant to section 4(f) of the Federal Power Act, proposing to study the feasibility of the White River Hydroelectric Project, located on the White River in Pierce County, Washington. The sole purpose of a preliminary permit, if issued, is to grant the permit holder priority to file a license application during the permit term. A preliminary permit does not authorize the permit holder to perform any land-disturbing activities or otherwise enter upon lands or waters owned by others without the owners' express permission.

The proposed project would consist of the following: (1) A 352-foot-long, 11-foot-high timber constructed dam with a 7-foot-high aluminum flashboard; (2) a fish recovery pond containing a 5-foot-wide, 50-foot-long channel and nine screen bays; (3) a 200-foot-long, 17-foot-high fish screen facility, which returns fish to the White River; (4) a 1,000-foot-long trapezoidal concrete channel; (5) two 5.5- to 10-foot-diameter, 11,200-foot-long pipelines; (6) a valve house to convey the water to an approximately 1.5-mile-long riprapped channel; (7) Lake Tapps, which has a surface area of 2,700 acres and a storage capacity of 48,258 acre-feet at elevation 543 feet above mean sea level; (8) a tunnel intake structure; (9) a 12-foot-diameter, 2,842-foot-long concrete tunnel; (10) a 73-foot-deep forebay; (11) three 5.4- to 6-foot-diameter, 3,000-foot-long penstocks; (12) an 85-foot-wide, 255-foot-long, and 55-foot-high powerhouse containing two 10-megawatt (MW) turbine/generator units, one 15-MW turbine/generator unit, and one 28-MW turbine/generator unit, for a total generating capacity of 63 MW; (13) an approximately 34-foot-wide, 2,200-foot-long tailrace discharging to White River; (14) a 4,181-foot-long, 115-kilovolt transmission line; and (15) appurtenant facilities. The proposed White River Project will have an average annual generation of 100 gigawatt-hours.

Applicant Contact: Mr. Thom A. Fischer, White River Hydro, LLC, 3633 Alderwood Ave., Bellingham, WA 98225; phone: (360) 739-9777.

FERC Contact: Jennifer Harper, (202) 502-6136.

The deadline for filing comments, motions to intervene, competing applications (without notices of intent), or notices of intent to file competing applications has been extended 60 days from the issuance of this notice to December 20, 2010. Competing applications and notices of intent must meet the requirements of 18 CFR 4.36. Comments, motions to intervene, notices of intent, and competing applications may be filed electronically via the Internet. Entities that have already filed comments, motions to intervene, competing applications, or notices of intent to file competing applications do not need to refile. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13804) in the docket number field to access the document. For assistance, contact FERC Online Support.

Kimberly D. Bose,
Secretary.

[FR Doc. 2010-27125 Filed 10-26-10; 8:45 am]

BILLING CODE 6717-01-P